DEPARTMENT OF THE INTERIOR

Bureau of Land Management

[LLNML00000 L71220000.FR0000 LVTFG13G4430; NMNM 124261]

Notice of Realty Action: Proposed Non-Competitive Lease of Public Land in Sierra County, NM

AGENCY: Bureau of Land Management, Interior.

ACTION: Notice.

SUMMARY: The Bureau of Land Management (BLM), Las Cruces District Office, proposes to lease two parcels of public land totaling 4.12 acres in Sierra County, New Mexico, for agricultural purposes (pecan orchard). The subject parcels were inadvertently developed by the adjacent landowner into a pecan orchard without authorization. The area has a long history of agricultural use and the proposed lease would provide the BLM with a reasonable option to resolve the continued unauthorized use of the affected public lands. The BLM proposes to lease the lands for not less than the fair market value to Winder Farm. The BLM White Sands Resource Management Plan, dated October 1986, does not exclude the subject parcel from the authorized officer's discretion to consider lease proposals in the subject area.

DATES: Written comments may be submitted to the address below. The BLM must receive your comments on or before January 22, 2015.

ADDRESSES: Send written comments concerning the proposed lease to the District Manager, BLM, Las Cruces District Office, 1800 Marquess Street, Las Cruces, NM 88005.

FOR FURTHER INFORMATION CONTACT: Anthony Hom, Realty Specialist, at the address above, or by telephone at 575-525-4331, or by email at ahom@blm.gov. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: The BLM has determined that the two parcels of land described below are suitable for consideration as an agricultural lease under Section 302 of the Federal Land Policy Management Act of 1976 (43 U.S.C. 1732), (FLPMA) and the implementing regulations at 43 CFR 2920.

Parcel A: New Mexico Principal Meridian, Sierra County, New Mexico

A portion of land situated in the southeast quarter (SE1/4) of the northwest quarter (NW1/4) of section 10, township 18 south, range 7 west, New Mexico Principal Meridian, Sierra County, New Mexico. Depicted in the Survey of Farmed Lands by Underwood Engineering Inc., signed September 16, 2013, and shown as Parcel A and is described as follow:

BEGINNING at the northeast corner of PARCEL A. Said point of beginning hereinafter referred as “Corner No. 1 of Parcel A” for this description. From said point of beginning of Parcel A, the center north one-sixteenth (1/16) section corner bears S. 89°15′41″ E., a distance of 309.39 feet.

THENCE, S. 16°01′00″ W., a distance of 325.87 feet to corner No. 2 of Parcel A;

THENCE, N. 81°28′42″ W., a distance of 414.02 feet to corner No. 3 of Parcel A;

THENCE, N. 31°47′03″ W., a distance of 290.69 feet to corner No. 4 of Parcel A;

THENCE, N. 13°52′20″ W., a distance of 13.63 feet to corner No. 5 of Parcel A;

THENCE, S. 89°15′41″ E., a distance of 655.80 feet to the POINT OF BEGINNING OF PARCEL A containing 3.50 acres of land.

Parcel B: New Mexico Principal Meridian, Sierra County, New Mexico

A portion of land situated in the northeast quarter (NE¼) of the southwest quarter (SW¼) of section 10, township 18 south, range 7 west, New Mexico Principal Meridian, Sierra County, New Mexico. Depicted in the Survey of Farmed Lands by Underwood Engineering Inc., signed September 16, 2013, and shown as Parcel B and is described as follow:

BEGINNING at the northerly corner of PARCEL B. Said point of beginning hereinafter referred as “Corner No. 1 of Parcel B” for this description. From said point of beginning of Parcel B the center one quarter (¼) section corner bears N. 2°21′17″ E., a distance of 364.11 feet.

THENCE, S. 2°21′17″ W., a distance of 449.78 feet to corner No. 2 of Parcel B;

THENCE, S. 81°51′43″ W., a distance of 122.42 feet to corner No. 3 of Parcel B;

THENCE, N. 16°39′35″ E., a distance of 487.18 feet to the POINT OF BEGINNING OF PARCEL B containing 0.62 acres of land.

The area described (Parcels A and B) in aggregate is 4.12 acres.

The applicable regulation at 43 CFR 2920.5-4(b) provides that, “land use authorizations may be offered on a negotiated, non-competitive basis, when, in the judgment of the authorized officer equities, such as prior use of the lands, exist, no competitive interest exists or where competitive bidding would represent unfair competitive and economic disadvantage to the originator of the unique land use concept.” Based on past use of the subject parcels for the establishment of pecan trees owned by Winder Farm, it is the authorized officer's decision to offer the proposed agricultural lease to Winder Farm on a non-competitive basis because competitive bidding would represent an unfair competitive and economic disadvantage to Winder Farm. As noted above, Winder Farms' use of the parcels constituted an inadvertent trespass that they discovered and subsequently reported to the BLM. Winder Farms has since worked with the BLM to resolve the trespass. Subsequent to the BLM's receipt of an application for leasing by Winder Farm that complies with all applicable requirements set forth at 43 CFR 2920.5, processing of the proposed lease will take place in accordance with 43 CFR 2920.6, and other applicable regulations. Information and documentation regarding processing of the lease application is available as described in ADDRESSES, above, and reference should be made to National Environmental Policy Act (NEPA) analysis, to be conducted under DOI-BLM-NM-L000-2014-0168-EA. No final decision on the lease will be made until all required analyses are completed. If authorized, the lease would be subject to provisions of FLPMA and all applicable regulations of the Secretary of the Interior, including, but not limited to, 43 CFR part 2920, and to valid existing rights.

Public comments regarding the proposed lease may be submitted in writing—see ADDRESSES above—on or before January 22, 2015. Comments received in electronic form, such as email or fax, will not be considered. Any adverse comments regarding the proposed lease will be reviewed by the BLM State Director or another authorized official of the Department of the Interior, who may sustain, vacate, or modify this realty action in whole or in part. In the absence of timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so.

(Authority: 43 CFR 2920.4)

Michael H. Tupper,
Deputy State Director, Lands and Minerals.

[FR Doc. 2014-28687 Filed 12-5-14; 8:45 am]

BILLING CODE 4310-FB-P